DEPARTMENT OF THE INTERIOR

National Park Service, Interior

Concession Contract and Permits

AGENCY: National Park Service, Interior

ACTION: Public notice.

SUMMARY: Pursuant to 36 CFR 51.23, public notice is hereby given that the National Park Service proposes to extend the following expiring concession contracts for a period of up to 1 year, or until such time as a new contract is executed, whichever occurs sooner.

DATES: Effective Date: January 1, 2007.

FOR FURTHER INFORMATION CONTACT: Jo A. Pendry, Concession Program Manager, National Park Service, Washington, DC 20240, Telephone 202/513-7156.

SUPPLEMENTARY INFORMATION: The listed concession authorizations will expire by their terms on or before December 31, 2006. The National Park Service has determined that the proposed short-term extensions are necessary in order to avoid interruption of visitor services and has taken all reasonable and appropriate steps to consider alternatives to avoid such interruption. these extensions will allow the National Park Service to complete and issue a prospectus leading to the competitive selection of a concessioner for a new long-term concession contract covering these operations.

Conc ID No. | Concession name | Park
CANY031-02 | Holiday River Expeditions, Inc | Canyonlands National Park.
CANY032-02 | Escape Adventures, Inc | Canyonlands National Park.
CANY033-02 | Mike & Maggie Adventures, LLC | Canyonlands National Park.
CANY034-02 | Rim Tours, Inc | Canyonlands National Park.
CANY035-02 | Western Spirit Cycling, Inc | Canyonlands National Park.
GLAC002-81 | Glacier Park, Inc | Glacier National Park.
GRTE022-02 | Jenny Lake Boating, Inc | Grand Teton National Park.
YELL001-03 | Medcor, Inc | Yellowstone National Park.

Dated: December 16, 2006.
John Wessels,
Acting Assistant Director, Business Services.

[FR Doc. 07-660 Filed 2-13-07; 8:45 am]

BILLING CODE 4312-53-M